DEPARTMENT OF COMMERCE

International Trade Administration

[A-475-828, A-557-809, A-565-801]

Antidumping Duty Orders: Stainless Steel Butt-Weld Pipe Fittings From Italy, Malaysia, and the Philippines

AGENCY: Import Administration, International Trade Administration, Department of Commerce.

ACTION: Notice of antidumping duty orders.

EFFECTIVE DATE: February 23, 2001.

FOR FURTHER INFORMATION CONTACT: Helen Kramer (Italy) at (202) 482-0405, Juanita Chen (Malaysia) at (202) 482-0409, or Fred Baker (Philippines) at (202) 482-2924, Import Administration, International Trade Administration, U.S. Department of Commerce, 14th Street and Constitution Avenue, N.W., Washington, D.C. 20230.

Applicable Statute and Regulations

Unless otherwise indicated, all citations to the Tariff Act of 1930, as amended (the Tariff Act) are references to the provisions effective January 1, 1995, the effective date of the amendments made to the Tariff Act by the Uruguay Round Agreements Act (URAA). In addition, unless otherwise indicated, all references to the Department of Commerce's (the Department's) regulations are to 19 CFR Part 351 (1999).

Scope of Investigation

For purposes of these orders, the product covered is certain stainless steel butt-weld pipe fittings (butt-weld fittings). Butt-weld pipe fittings are under 14 inches in outside diameter (based on nominal pipe size), whether finished or unfinished. The product encompasses all grades of stainless steel and “commodity” and “specialty” fittings. Specifically excluded from the definition are threaded, grooved, and bolted fittings, and fittings made from any material other than stainless steel.

The butt-weld fittings subject to these orders are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by these orders.

These orders do not apply to cast fittings. Cast austenitic stainless steel pipe fittings are covered by specifications A351/A351M, A743/743M, and A744/A744M.

The butt-weld fittings subject to these orders are currently classifiable under subheading 7307.23.0000 of the Harmonized Tariff Schedule of the United States (HTSUS). Although the HTSUS subheadings are provided for convenience and customs purposes, the written description of the scope of these orders is dispositive.

Antidumping Duty Orders

In accordance with section 735(a) of the Tariff Act, the Department made its final determinations that stainless steel butt-weld pipe fittings from Italy, Malaysia, and the Philippines are being sold at less than fair value. (See Notice of Final Determination of Sales at Less Than Fair Value: Stainless Steel Butt-Weld Pipe Fittings, 65 FR 81823 (Philippines), 81825 (Malaysia), 81830 (Italy) (December 27, 2000)).¹ On January 29, 2001, the International Trade Commission (the Commission) notified the Department of its final determination pursuant to section 735(b)(1)(A)(i) of the Tariff Act that an industry in the United States is materially injured by reason of less-than-fair-value imports of subject merchandise from Italy, Malaysia, and the Philippines. Therefore, in accordance with section 736(a)(1) of the Tariff Act, the Department will direct Customs officers to assess, upon further advice by the Department, antidumping duties equal to the amount by which the normal value of the merchandise exceeds the export price (or constructed export price) of the merchandise for all relevant entries of stainless steel butt-weld pipe fittings from Italy, Malaysia, and the Philippines. These antidumping duties will be assessed on all unliquidated entries of stainless steel pipe fittings from Italy and the Philippines, entered, or withdrawn from warehouse, for consumption on or after August 2, 2000, the date on which the Department published its notices of preliminary determination for those countries in the Federal Register (65 FR 47388 (Italy) and 47393 (Philippines)). With respect to Malaysia, because the Department made a finding of sales at not less than fair value in the preliminary determination, antidumping duties will be assessed on all unliquidated entries of stainless steel pipe fittings entered, or withdrawn from warehouse, for consumption on or after December 27, 2000, the date on which the Department published its notice of an affirmative final determination in the Federal Register (65 FR 81825). Customs officers must require, at the same time as importers would normally deposit estimated duties on this merchandise, a cash deposit equal to the estimated weighted-average antidumping duty margins as noted below. The “All Others” rates apply to all exporters of subject stainless steel butt-weld pipe fittings not specifically listed. The weighted-average dumping margins are as follows:

¹ We received ministerial error allegations with respect to the final determinations for Malaysia and the Philippines. On December 28, 2000, Kanzen Tetsu Sdn. Bhd. (respondent in the Malaysian investigation) and on January 2, 2001, Tung Fong Industrial Co., Inc. (respondent in the Philippines investigation) submitted ministerial error allegations. However, the Department found that these allegations either did not fall within the statutory or regulatory definition of ministerial error or no longer needed correction. See memoranda to the file dated January 17, 2001 (with respect to Malaysia) and January 30, 2001 (with respect to the Philippines). See also section 735(e) of the Tariff Act and 19 CFR 351.224(f).

Exporter/manufacturer | Margin percentage
Italy
Coprosider S.p.A | 26.59
All Others | 26.59
Malaysia
Kanzen Tetsu Sdn. Bhd | 7.51
All Others | 7.51
Philippines
Enlin Steel Corporation | 33.81
Tung Fong Industrial Co., Inc | 33.81
All Others | 33.81

This notice constitutes the antidumping duty orders with respect to stainless steel butt-weld pipe fittings from Italy, Malaysia, and the Philippines. Interested parties may contact the Department's Central Records Unit, room B-099 of the main Commerce building, for copies of an updated list of antidumping duty orders currently in effect.

These orders are published in accordance with section 736(a) of the Tariff Act of 1930, as amended. Effective January 20, 2001, Bernard T. Carreau is fulfilling the duties of the Assistant Secretary for Import Administration.

Dated: February 6, 2001.
Bernard T. Carreau,
Deputy Assistant Secretary, AD/CVD Enforcement II.

[FR Doc. 01-4540 Filed 2-22-01; 8:45 am]

BILLING CODE 3510-DS-P